DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data Toolkit Protocol for the Crisis Counseling Assistance and Training Program (CCP) (OMB No. 0930-0270)—Revision

The Substance Abuse and Mental Health Services Administration's (SAMHSA) Center for Mental Health Services (CMHS) will create a toolkit to be used for the purposes of collecting data on the Crisis Counseling Assistance and Training Program (CCP). The CCP provides supplemental funding to states and territories for individual and community crisis intervention services during a federal declared disaster in accordance with section 416, Robert T. Stafford Disaster Relief and Emergency Assistance Act (Pub. L. 93-288, as amended).

The CCP has provided disaster mental health services to millions of disaster survivors since its inception and, as a result of 30 years of accumulated expertise, it has become an important model for Federal response to a variety of catastrophic events. State CCPs, such as Project HOPE (after Hurricane Floyd in North Carolina), Project Heartland (in Oklahoma City after the Murrah Federal Building bombing), Project Liberty (in New York after 9/11), and Project Outreach for Recovery (after the Rhode Island nightclub fire), gulf coast States affected by the 2005 hurricanes, and recent 2007 southern California wildfires have primarily addressed the short-term mental and behavioral health needs of communities through (a) outreach and public education, (b) individual and group counseling, and (c) referral. Disaster victims are normally resilient people responding to abnormally stressful events, thus crisis counseling services are directed at normalizing individuals' experience and distress. Outreach and public education serve primarily to normalize reactions and to engage people who might need further care. Crisis counseling is a strengths-based approach that assists survivors to cope with current stress and symptoms in order to return to predisaster functioning. Crisis counseling relies largely on “active listening,” and crisis counselors also provide psycho-education (especially about the nature of responses to trauma) and help clients build coping skills. Crisis counseling may be a one time event or typically continues no more than a few times on several different occasions. Since crisis counseling is time-limited, referral is the third important function of CCPs. Counselors are expected to refer clients to formal treatment if the person has developed more serious psychiatric, substance abuse, or other severe behavioral health problems.

Data about services delivered and users of services will be collected throughout the program period. The data will be collected via the use of a toolkit that relies on standardized forms. At the program level, the data will be entered quickly and easily into a cumulative database to yield summary tables for progress reporting, such as quarterly and final, for the program. The data will be collected in a consistent way from all programs, so that data can be uploaded into an ongoing national database that likewise provides CMHS with a way of producing summary reports of services provided across all programs funded.

The components of the data tool kit are listed and described below:

• Encounter logs. These forms document all services provided. Completion of these logs by the crisis counselors is required during both the CCP Immediate Services Program (first 60 days after the disaster declaration) and the Regular Services Program (up to 9 months after Immediate Services Program). There are three types of encounter logs: (1) Individual Crisis Counseling Services Encounter Log; (2) Group Encounter Log; and (3) Weekly Tally Sheet.

○ Individual Crisis Counseling Services Encounter Log. Crisis counseling is defined as an interaction that lasts at least 15 minutes and involves participant disclosure. This form is completed by the Crisis Counselor for each service recipient, defined as the person or persons who actively participated in the session (e.g., by verbally participating), not someone who is merely present. For families, complete separate forms for all family members who are actively engaged in the visit. Information collected includes demographics, service characteristics, risk factors, event reactions, and referral data.

○ Group Encounter Log. This form also completed by crisis counselors is used to identify either a group crisis counseling encounter or a group public education encounter. A check at the top identifies the class of activities (i.e., counseling where participants do most of the talking or education where a formally presentation is conducted). Information collected includes services characteristics, group identity, and activity topics.

○ Weekly Tally Sheet. Similar to the Individual and Group Encounter Logs, this form is completed by crisis counselors or other appropriate program staff and documents brief educational and supportive encounters not captured on either the Individual or Group Encounter Logs. Information collected includes service characteristics, daily tallies and weekly totals for brief educational or supportive contacts such as mailings, telephone calls, email contacts and material distribution with no or minimal in-person interaction.

The following three tools of the Data Toolkit: (1) Assessment and Referral, (2) Participant Feedback, and (3) CCP Service Provider Feedback are typically introduced when the Regular Services Program begins. These tools are not required to be completed; they are strongly encouraged, but optional.

• Assessment and Referral Tool. This tool provides descriptive information about intense users of services, defined as all individuals receiving a third individual crisis counseling visit. This tool will be completed by the crisis counselor.

• Participant Feedback. These surveys are completed by and collected from a sample of service recipients, not every recipient. A time sampling approach (e.g., soliciting participation from all counseling encounters one week per quarter) will be used. Information collected includes satisfaction with services, perceived improvements in self-functioning, types of exposure, and event reactions.

• CCP Service Provider Feedback. These surveys are completed by and collected from the CCP service providers anonymously at six months and one year postevent. The survey will be coded on several program-level as well as worker-level variables. However, the program itself will be identified and shared with program management only if the number of individual workers was greater than 20. Estimates of Annualized Hour Burden

Estimates of Annualized Hour Burden
Form | Number of respondents | Responses per respondent | Total responses | Hours per response | Total hour burden
Individual Crisis Counseling Services Encounter Log Form | ¹ 200 | 40 | 8,000 | .03 | 240
Group Encounter Log Form | 94 | 50 | 4,700 | .03 | 141
Weekly Tally Sheet | ¹ 200 | ² 33 | 6,600 | .08 | 528
Assessment & Referral Tool | ¹ 200 | ³ 12 | 2,400 | .08 | 192
Participant Feedback | 1,000 | 1 | 1,000 | .06 | 60
CCP Service Provider Feedback | 300 | 1 | 300 | .08 | 24
Total |  |  | 23,000 |  | 1,185
¹ 200 is based on typical average of 10 crisis counselors per grant with an approximate average of 20 grants per year.
² Average of 33 weeks for each grant that includes both Immediate Services and Regular Services Programs.
³ On average 30% of crisis of encounters may result in use of this optional tool.

Send comments to Summer King, SAMHSA Reports Clearance Officer, Room 7-1044, One Choke Cherry Road, Rockville, MD 20857 and e-mail her a copy at summer.king@samhsa.hhs.gov. Written comments should be received within 60 days of this notice.

Dated: February 21, 2008.
Elaine Parry,
Acting Director, Office of Program Services.

[FR Doc. E8-3903 Filed 2-28-08; 8:45 am]

BILLING CODE 4162-20-P